DEPARTMENT OF HEALTH AND HUMAN SERVICES

National Institutes of Health

National Institute of Neurological Disorders and Stroke; Amended Notice of Meeting

Notice is hereby given of a change in the meeting of the Neurological Sciences and Disorders B, June 22, 2000, 8 am to June 23, 2000, 5 pm, Radisson Barcelo Hotel, 2121 P St., NW, Washington, DC 20037 which was published in the Federal Register on April 26, 2000, 65 FR 24493.

The meeting will be held on June 22, 2000, 8 am to 5 pm. The meeting is closed to the public.

Dated: June 20, 2000.
LaVerne Y. Stringfield,
Director, Office of Federal Advisory Committee Policy.

[FR Doc. 00-16621 Filed 6-29-00; 8:45 am]

BILLING CODE 4140-01-M